DEPARTMENT OF TRANSPORTATION

Federal Aviation Administration

14 CFR Part 39

[Docket No. FAA-2012-0421; Directorate Identifier 2012-NM-042-AD; Amendment 39-17284; AD 2012-25-03]

RIN 2120-AA64

Airworthiness Directives; The Boeing Company Airplanes

AGENCY: Federal Aviation Administration (FAA), DOT.

ACTION: Final rule; correction.

SUMMARY: The FAA is correcting an airworthiness directive (AD) that published in the Federal Register. That AD applies to certain The Boeing Company Model 757 airplanes. That AD incorrectly identified certain actions that are terminated in another AD. This document corrects that error. In all other respects, the original document remains the same.

DATES: This final rule is effective February 28, 2013. The effective date for AD 2012-25-03 (77 FR 73897, December 12, 2012) remains January 16, 2013.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Elias Natsiopoulos, Aerospace Engineer, Systems and Equipment Branch, ANM-130S, FAA, Seattle Aircraft Certification Office (ACO), 1601 Lind Avenue SW., Renton, WA 98057-3356; phone: 425-917-6478; fax: 425-917-6590; email: Elias.Natsiopoulos@faa.gov.

SUPPLEMENTARY INFORMATION: AD 2012-25-03, Amendment 39-17284 (77 FR 73897, December 12, 2012), currently requires repetitive inspections of electrical heat terminals on the left and right windshields for damage, and corrective actions if necessary; and allows replacing an affected windshield with a windshield equipped with different electrical connections, which would terminate the repetitive inspections for that windshield. For certain The Boeing Company Model 757 airplanes, AD 2012-25-03 also specifies that accomplishing the required actions terminates certain requirements of AD 2010-15-01, Amendment 39-16367 (75 FR 39804, July 13, 2010), for that airplane only.

As published, paragraph (l) of AD 2012-25-03, Amendment 39-17284 (77 FR 73897, December 12, 2012), incorrectly identified certain actions that are terminated in AD 2010-15-01, Amendment 39-16367 (75 FR 39804, July 13, 2010).

No other part of the preamble or regulatory information has been changed; therefore, only the changed portion of the final rule is being published in the Federal Register.

The effective date of this AD remains January 16, 2013.

Correction of Regulatory Text

§ 39.13 [Corrected]

In the Federal Register of December 12, 2012, AD 2012-25-03, Amendment 39-17284 (77 FR 73897, December 12, 2012), on page 73902, in the second column, paragraph (l) of AD 2012-25-03 is corrected to read as follows:

* * * * *

(l) Related AD Termination

Accomplishing the actions required by this AD terminates the requirements of paragraphs (f), (g), and (h) of AD 2010-15-01, Amendment 39-16367 (75 FR 39804, July 13, 2010), for that airplane only.

* * * * *

Issued in Renton, Washington, on February 15, 2013.
Kalene C. Yanamura,
Acting Manager, Transport Airplane Directorate, Aircraft Certification Service.

[FR Doc. 2013-04337 Filed 2-27-13; 8:45 am]

BILLING CODE 4910-13-P